DEPARTMENT OF THE TREASURY

Submission for OMB Review; Comment Request

March 27, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 5, 2003, to be assured of consideration.

Internal Revenue Service (IRS)

OMB Number: 1545-0260.

Form Number: IRS Form 706-CE.

Type of Review: Revision.

Title: Certificate of Payment of Foreign Death Tax.

Description: Form 706-CE is used by the executors of estates to certify that foreign death taxes have been paid so that the estate may claim the foreign death tax credit allowed by IRS section 2014. The information is used by IRS to verify that the proper tax credit has been claimed.

Respondents: Individuals or households.

Estimated Number of Respondents/Recordkeepers: 2,250.

Estimated Burden Hours Per Respondent/Recordkeeper:

Recordkeeping | 45 min.
Learning about the law or the form | 4 min.
Preparing and sending the form | 25 min.
Copying, assembling, and sending the form to the IRS | 27 min.

Frequency of Response: On occasion.

Estimated Total Reporting/Recordkeeping Burden: 3,870 hours.

OMB Number: 1545-1516.

Form Number: IRS Form 8832.

Type of Review: Extension.

Title: Entity Classification Election.

Description: An eligible entity that chooses not be classified under the default rules or that wishes to change its current classification must file Form 8832 to elect a classification.

Respondents: Business or other for-profit, farms.

Estimated Number of Respondents/Recordkeepers: 5,000.

Estimated Burden Hours Per Respondent/Recordkeeper:

Recordkeeping | 1 hr., 49 min.
Learning about the law or the form | 2 hr., 7 min.
Preparing and sending the form to the IRS | 23 min.

Frequency of Response: On occasion, other (for year of sale of home).

Estimated Total Reporting/Recordkeeping Burden: 21,650 hours.

Clearance Officer: Glenn Kirkland, (202) 622-3428, Internal Revenue Service, Room 6411-03, 1111 Constitution Avenue, NW.,Washington, DC 20224.

OMB Reviewer: Joseph F. Lackey, Jr., (202) 395-7316, Office of Management and Budget, Room 10235, New Executive Office Building, Washington, DC 20503.

Mary A. Able,
Departmental Reports, Management Officer.

[FR Doc. 03-8163 Filed 4-3-03; 8:45 am]

BILLING CODE 4830-01-P